DEPARTMENT OF HOUSING AND URBAN DEVELOPMENT

[Docket No. FR-5963-D-01]

Order of Succession for the Office of the Chief Information Officer

AGENCY: Office of the Chief Information Officer, HUD.

ACTION: Notice of Order of Succession.

SUMMARY: In this notice, the Chief Information Officer (CIO) for the Department of Housing and Urban Development designates the Order of Succession for the Office of the Chief Information Officer. This Order of Succession supersedes all prior Orders of Succession for the Office of the Chief Information Officer, including the Order of Succession published on November 1, 2011.

DATES: Effective Date: August 25, 2016.

FOR FURTHER INFORMATION CONTACT: Kevin R. Cooke, Jr., Principal Deputy Chief Information Officer, Office of the Chief Information Officer, Department of Housing and Urban Development, 451 7th Street SW., Room 4160, Washington, DC 20410, telephone number (202) 708-0306 (this is not a toll free number). Persons with hearing or speech impairments may access this number by calling the toll free Federal Relay Service at (800) 877-8339.

SUPPLEMENTARY INFORMATION: The CIO for the Department of Housing and Urban Development is issuing this Order of Succession of officials authorized to perform the functions and duties of the CIO when, by reason of absence, disability, or vacancy in office, the CIO is not available to exercise the powers or perform the duties of the office. This Order of Succession is subject to the provisions of the Federal Vacancies Reform Act of 1998 (5 U.S.C. 3345-3349d). This publication supersedes all prior orders of succession for the Office of the Chief Information Officer, including the Order of Succession published on November 1, 2011 (76 FR 67472).

Accordingly, the CIO designates the following Order of Succession:

Section A. Order of Succession

During any period when, by reason of absence, disability, or vacancy in office, the Chief Information Officer for the Department of Housing and Urban Development is not available to exercise the powers or perform the duties of the Chief Information Officer, the following officials within the Office of the Chief Information Officer are hereby designated to exercise the powers and perform the duties of the Office. No individual who is serving in an office listed below in an acting capacity may act as the Chief Information Officer pursuant to this Order of Succession.

(1) Principal Deputy Chief Information Officer;

(2) Deputy Chief Information Officer for IT Infrastructure and Operations;

(3) Chief Technology Officer;

(4) Chief Information Security Officer;

(5) Deputy Chief Information Officer for Business and IT Resource Management;

(6) Deputy Chief Information Officer for Customer Relationship and Performance Management.

These officials shall perform the functions and duties of the office in the order specified herein, and no official shall serve unless all the other officials, whose position titles precede his/hers in this order, are unable to act by reason of absence, disability, or vacancy in office.

Section B. Authority Superseded

This Order of Succession supersedes all prior Orders of Succession for the Office of the Chief Information Officer, including the Order of Succession published on November 1, 2011 (76 FR 67472).

Authority: Section 7(d), Department of Housing and Urban Development Act, 42 U.S.C. 3535(d).

Dated: August 25, 2016.
Rafael Diaz,
Chief Information Officer.

[FR Doc. 2016-22089 Filed 9-13-16; 8:45 am]

BILLING CODE 4210-67-P